DEPARTMENT OF THE INTERIOR

National Park Service

[NPS-WASO-D-COS-POL-28210; PPWODIREP0; PPMPSAS1Y.YP0000]

Notice of the August 27, 2019, Meeting of the National Park System Advisory Board

AGENCY: National Park Service, Interior.

ACTION: Meeting notice.

SUMMARY: In accordance with the Federal Advisory Committee Act of 1972, the National Park Service (NPS) is hereby giving notice that the National Park System Advisory Board (Board) will meet as noted below.

DATES: The meeting will be held on Tuesday, August 27, 2019, from 9:30 a.m. to 5:15 p.m. (Eastern).

ADDRESSES: The meeting will be conducted in the South Penthouse of the Stewart Lee Udall Department of the Interior Building, 1849 C Street NW, Washington, DC 20240, telephone 202-354-3950.

FOR FURTHER INFORMATION CONTACT: Joshua Winchell, Staff Director, National Park System Advisory Board, Office of Policy, National Park Service, 1849 C Street NW, Mail Stop 2659, Washington, DC 20240, telephone (202) 513-7053, or email itmd_joshuawinchell@nps.gov.

SUPPLEMENTARY INFORMATION: The Board has been established by authority of the Secretary of the Interior (Secretary) under 54 U.S.C. 100906, and is regulated by the Federal Advisory Committee Act.

The Board will convene its business meeting at 9:30 a.m. and adjourn at 5:15 p.m. During the morning session, the Board will be addressed by Secretary of the Interior David Bernhardt, and other senior Department of the Interior and National Park Service leaders. During the afternoon session, the Board will be briefed by National Park Service officials on the organization, programs, and priorities of the National Park Service; and the Board will attend to housekeeping matters, including the election of the chair and vice chair, and establishment of committees under the Board. There will also be a public comment period. The final agenda will be posted to the Board's website prior to the meeting at https://www.nps.gov/advisoryboard.htm.

The meeting is open to the public, but preregistration is required due to security requirements in the building and limited seating. Any individual who wishes to attend the meeting should register via email at Joshua Winchell itmd_joshuawinchell@nps.gov, or telephone (202) 513-7053. Interested persons may choose to make a public comment at the meeting during the designated time for this purpose. Members of the public may also choose to submit written comments by mailing them to Joshua Winchell, Staff Director, National Park System Advisory Board, Office of Policy, National Park Service, 1849 C Street NW, MS 2659, Washington, DC 20240, or via email at itmd_joshuawinchell@nps.gov. Individuals who plan to attend and need special assistance, such as sign language interpretation, should contact the NPS as provided above.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2019-15815 Filed 7-24-19; 8:45 am]

BILLING CODE 4312-52-P